DEPARTMENT OF THE TREASURY

Agency Information Collection Activities; Submission for OMB Review; Comment Request; Due Diligence Programs for Correspondent Accounts for Foreign Financial Institutions and for Private Banking Accounts

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before October 3, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Financial Crimes Enforcement Network (FinCEN)

Title: Due Diligence Programs for Correspondent Accounts for Foreign Financial Institutions and for Private Banking Accounts.

OMB Control Number: 1506-0046.

Type of Review: Extension without change of a currently approved collection.

Description: Section 312 of the USA PATRIOT Act added subsection (i) to 31 U.S.C. 5318 of the BSA. Section 312 mandates that each financial institution that establishes, maintains, administers, or manages a private banking account or a correspondent account in the United States for non-U.S. persons establish appropriate, specific, and, where necessary, enhanced, due diligence policies, procedures, and controls that are reasonably designed to detect and report instances of money laundering through those accounts. The regulations implementing the due diligence requirements for maintaining foreign correspondent accounts and private banking accounts are found at 31 CFR 1010.610 and 31 CFR 1010.620, respectively, and apply to covered financial institutions, defined as certain banks, brokers or dealers in securities, futures commission merchants, introducing brokers in commodities, and mutual funds.

Form: None.

Affected Public: Businesses or other for-profits.

Estimated Number of Respondents: Financial Institutions.

Frequency of Response: On occasion.

Estimated Total Number of Annual Responses: 16,232.

Estimated Time per Response: 2 hours.

Estimated Total Annual Burden Hours: 32,464.

Authority: 44 U.S.C. 3501 et seq.

Spencer W. Clark,
Treasury PRA Clearance Officer.

[FR Doc. 2024-19635 Filed 8-30-24; 8:45 am]

BILLING CODE 4810-02-P